DEPARTMENT OF COMMERCE

National Oceanic and Atmospheric Administration

RIN 0648-XF954

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet February 5, 2018 through February 12, 2018, in Seattle, WA.

DATES: The meetings will be held Monday, February 5, 2018 through Monday, February 12, 2018. See SUPPLEMENTARY INFORMATION for specific dates and times.

ADDRESSES:

Meeting address: The meeting will be held at the Renaissance Hotel, 515 Madison St., Seattle, WA 98104.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council, SSC, and AP will meet all day on Wednesday, February 7, 2018 for the Ecosystem Research Workshop in the Ballroom. The Council will begin its plenary session at 8 a.m. in the South Room on Thursday, February 8, continuing through Monday, February 12, 2018. The Scientific and Statistical Committee (SSC) will begin at 8 a.m. in the East Room on Monday, February 5, and continue through Tuesday, February 6, 2018. The Council's Advisory Panel (AP) will begin at 8 a.m. in the North/West Room on Tuesday, February 6, and continue through Friday, February 9, 2018. The IFQ Committee will meet on Monday, February 5, 2018, from 8 a.m. to 5 p.m. in the Marion Room. The Legislative Committee will meet on Monday, February 5, 2018, from 1 p.m. to 5 p.m. (Room TBD). The Ecosystem Committee will meet on Tuesday, February 6, 2018, from 8 a.m. to 5 p.m. in the Marion Room.

Agenda

Monday, February 5, 2018 Through Monday, February 12, 2018

Council Plenary Session: The agenda for the Council's plenary session will include the following issues. The Council may take appropriate action on any of the issues identified.

(1) Executive Director's Report

(2) NMFS Management Report

(3) ADF&G Report

(4) USCG Report

(5) USFWS Report

(6) IPHC Report

(7) Protected Species Report

(8) BSAI Crab: Norton Sound RKC ACL, Crab Plan Team Report

(9) Small Sideboards

(10) GOA Catcher Vessel Chinook PSC limit adjustments

(11) IFQ medical lease provision

(12) IFQ beneficiary designation provision

(13) IFQ Committee—Report on proposals

(14) Arctic Exploratory Fishing

(15) Observer and EM Projects

(16) Programmatic Groundfish Objectives

(17) Economic SAFE Report

(18) Staff Tasking

The Advisory Panel will address most of the same agenda issues as the Council except B reports.

The SSC agenda will include the following issues:

(1) AFSC Report

(2) GOA Climate Report

(3) Marine Mammal Status

(4) Draft Agenda for Plan Team Workshop

(5) BSAI Crab

(6) Arctic Exploratory Fishing

(7) GOA Chinook PSC

(8) Economic SAFE

(9) Pollock Ageing Method

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although other non-emergency issues not on the agenda may come before these groups for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: January 12, 2018.
Tracey L. Thompson,
Acting Deputy Director, Office of Sustainable Fisheries, National Marine Fisheries Service.

[FR Doc. 2018-00763 Filed 1-17-18; 8:45 am]

BILLING CODE 3510-22-P